ENVIRONMENTAL PROTECTION AGENCY

40 CFR Part 180

[EPA-HQ-OPP-2010-0490; FRL-8834-1]

Aluminum tris(O-ethylphosphonate), Butylate, Chlorethoxyfos, Clethodim, et al.; Proposed Tolerance Actions

AGENCY: Environmental Protection Agency (EPA).

ACTION: Proposed rule.

SUMMARY: In accordance with current Agency practice to describe more clearly the measurement and scope or coverage of the tolerances, EPA is proposing minor revisions to tolerance expressions for a number of pesticide active ingredients, including the insecticides chlorethoxyfos, clofentezine, cyromazine, etofenprox, fenbutatin-oxide, fosthiazate, propetamphos, and tebufenozide; the fungicides aluminum tris(O-ethylphosphonate) and fenarimol; the herbicides butylate, clethodim, clomazone, fenoxaprop-ethyl, flumetsulam, flumiclorac pentyl, fluridone, fomesafen, glufosinate ammonium, lactofen, propyzamide, quinclorac, and pyridate; and the fungicide/bactericide oxytetracycline. Also, EPA is proposing to revoke the tolerances for aluminum tris(O-ethylphosphonate) on pineapple fodder and forage because they are not considered to be significant livestock feed items, and revise specific tolerance nomenclatures for aluminum tris(O-ethylphosphonate), clethodim, flumetsulam, and fluridone. In addition, EPA will be removing several expired tolerances for aluminum tris(O-ethylphosphonate), etofenprox, propyzamide, and tebufenozide.

DATES: Comments must be received on or before September 27, 2010.

ADDRESSES: Submit your comments, identified by docket identification (ID) number EPA-HQ-OPP-2010-0490, by one of the following methods:

• Federal eRulemaking Portal: http://www.regulations.gov. Follow the oN-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0490. EPA's policy is that all comments received will be included in the docket without change and may be made available oN-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave, NW., Washington, DC 20460-0001; telephone number: (703) 308-8037; e-mail address: nevola.joseph@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under the Federal Food, Drug, and Cosmetic Act (FFDCA) section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

In accordance with current Agency practice to describe more clearly the measurement and scope or coverage of tolerances, including applicable metabolites and degradates, EPA is proposing minor revisions to tolerance expressions for a number of pesticide active ingredients, including the insecticides chlorethoxyfos, clofentezine, cyromazine, etofenprox, fenbutatin-oxide, fosthiazate, propetamphos, and tebufenozide; the fungicides aluminum tris(O-ethylphosphonate) and fenarimol; the herbicides butylate, clethodim, clomazone, fenoxaprop-ethyl, flumetsulam, flumiclorac pentyl, fluridone, fomesafen, glufosinate ammonium, lactofen, propyzamide, quinclorac, and pyridate; and the fungicide/bactericide oxytetracycline. Also, EPA is proposing to revoke the tolerances for aluminum tris(O-ethylphosphonate) on pineapple fodder and forage because they are not considered to be significant livestock feed items, and therefore are no longer needed, and revise specific tolerance nomenclatures for aluminum tris(O-ethylphosphonate), clethodim, flumetsulam, and fluridone. Additional minor modifications are being made for reasons described in the discussion below pertaining to specific pesticides. It is EPA's general practice to propose revocation of those tolerances/tolerance exemptions for residues of pesticide active ingredients on crop uses for which there are no active registrations under the Federal Insecticide, Fungicide, and Rodenticide Act (FIFRA), unless any person submits comments on the proposal that indicate a need for the tolerance to cover residues in or on imported commodities or legally treated domestic commodities. In addition, EPA will be removing several expired tolerances for aluminum tris(O-ethylphosphonate), etofenprox, propyzamide, and tebufenozide.

Certain tolerances pertaining to the pesticides subject to this proposal have expired due to previous EPA regulation setting expiration dates. When the Agency finalizes the changes proposed in this document, EPA will also remove the expired tolerances from the Code of Federal Regulations. The amended regulatory text below reflects removal of the tolerances. The Agency is not accepting comments regarding the expired tolerances.

1. Aluminum tris(O-ethylphosphonate). In order to describe more clearly the measurement and scope or coverage of the tolerances, EPA is proposing to revise the introductory text containing the tolerance expression in 40 CFR 180.415(a) to read as follows:

Tolerances are established for residues of the fungicide aluminum tris(O-ethylphosphonate), including its metabolites and degradates, in or on the commodities in the table in this paragraph. Compliance with the tolerance levels specified in this paragraph is to be determined by measuring only aluminum tris(O-ethylphosphonate), in or on the commodity.

Because pineapple, fodder and pineapple, forage are no longer considered by the Agency to be significant livestock feed items as delineated in “Table 1. - Raw Agricultural and Processed Commodities and Feedstuffs Derived from Crops,” which is found under OCSPP Harmonized Test Guidelines for Residue Chemistry in 860.1000 dated August 1996 (available at http://www.epa.gov/ocspp/pubs/frs/publications/Test_Guidelines/series860.htm), EPA determined that these tolerances in 40 CFR 180.415(a) are no longer needed, and therefore should be revoked. Consequently, EPA is proposing to revoke the tolerances in 40 CFR 180.415(a) on pineapple, fodder and pineapple, forage.

In addition, EPA is proposing to revise commodity terminology to conform to current Agency practice in 40 CFR 180.415(a) as follows: “fruit, pome” to “fruit, pome, group 11.”

In order to describe more clearly the measurement and scope or coverage of the tolerances, EPA is proposing to revise the introductory text containing the tolerance expression in 40 CFR 180.415(c) to read as follows:

Tolerances with regional registration are established for residues of the fungicide aluminum tris(O-ethylphosphonate), including its metabolites and degradates, in or on the commodities in the table in this paragraph. Compliance with the tolerance levels specified in this paragraph is to be determined by measuring only aluminum tris(O-ethylphosphonate), in or on the commodity.

2. Butylate. In order to describe more clearly the measurement and scope or coverage of the tolerances, EPA is proposing to revise the introductory text containing the tolerance expression in 40 CFR 180.232(a) to read as follows:

Tolerances are established for residues of the herbicide butylate, including its metabolites and degradates, in or on the commodities in the table in this paragraph. Compliance with the tolerance levels specified in this paragraph is to be determined by measuring only butylate, S-ethyl bis(2-methylpropyl)carbamothioate, in or on the commodity.

3. Chlorethoxyfos. In order to describe more clearly the measurement and scope or coverage of the tolerances, EPA is proposing to revise the section heading in 40 CFR 180.486 from phosphorothioic acid, O,O-diethyl O-(1,2,2,2-tetrachloroethyl) ester to chlorethoxyfos, redesignate the existing paragraph from 40 CFR 180.486 to 180.486(a), and revise the introductory text containing the tolerance expression in newly designated 40 CFR 180.486(a) to read as follows:

Tolerances are established for residues of the insecticide chlorethoxyfos, including its metabolites and degradates, in or on the commodities in the table in this paragraph. Compliance with the tolerance levels specified in this paragraph is to be determined by measuring only chlorethoxyfos, O,O-diethyl O-(1,2,2,2-tetrachloroethyl) phosphorothioate, in or on the commodity.

In accordance with current Agency practice, EPA is proposing to revise 40 CFR 180.486 by adding separate paragraphs (b), (c), and (d), and reserving those paragraphs for tolerance exemptions for section 18 emergency exemptions, tolerances with regional registrations, and tolerances with indirect or inadvertent residues, respectively.

4. Clethodim. In order to harmonize with Codex and describe more clearly the measurement and scope or coverage of the tolerances, EPA is proposing that all the existing animal and plant tolerances for clethodim in 40 CFR 180.458(a)(1), 180.458(a)(2), and 180.458(a)(3) be expressed under the same tolerance expression in one paragraph, as 40 CFR 180.458(a), to read as follows:

Tolerances are established for residues of the herbicide clethodim, including its metabolites and degradates, in or on the commodities in the table in this paragraph. Compliance with the tolerance levels specified in this paragraph is to be determined by measuring only the sum of clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on the commodity.

Also, EPA is proposing to revise commodity terminology to conform to current Agency practice in newly designated 40 CFR 180.458(a) from “flax seed” to “flax, seed” and “vegetable, legume group 6, except soybean” to “vegetable, legume, group 6, except soybean.”

5. Clofentezine. In order to describe more clearly the measurement and scope or coverage of the tolerances, EPA is proposing to revise the introductory text containing the tolerance expression in 40 CFR 180.446(a)(1) to read as follows:

Tolerances are established for residues of the insecticide clofentezine, including its metabolites and degradates, in or on the commodities in the table in this paragraph. Compliance with the tolerance levels specified in this paragraph is to be determined by measuring only clofentezine, 3,6-bis(2-chlorophenyl)-1,2,4,5-tetrazine, in or on the commodity.

In order to describe more clearly the measurement and scope or coverage of the tolerances, EPA is proposing to revise the introductory text containing the tolerance expression in 40 CFR 180.446(a)(2) to read as follows:

Tolerances are established for residues of the insecticide clofentezine, including its metabolites and degradates, in or on the commodities in the table in this paragraph. Compliance with the tolerance levels specified in this paragraph is to be determined by measuring only the sum of clofentezine, 3,6-bis(2-chlorophenyl)-1,2,4,5-tetrazine, and its metabolite, 3-(2-chloro-4-hydroxyphenyl)-6-(2-chlorophenyl)-1,2,4,5-tetrazine, calculated as the stoichiometric equivalent of clofentezine, in or on the commodity.

6. Clomazone. In order to describe more clearly the measurement and scope or coverage of the tolerances, EPA is proposing to revise the introductory text containing the tolerance expression in 40 CFR 180.425(a) to read as follows:

Tolerances are established for residues of the herbicide clomazone, including its metabolites and degradates, in or on the commodities in the table in this paragraph. Compliance with the tolerance levels specified in this paragraph is to be determined by measuring only clomazone, 2-(2-chlorophenyl)methyl-4,4-dimethyl-3-isoxazolidinone, in or on the commodity.

7. Cyromazine. In order to describe more clearly the measurement and scope or coverage of the tolerances, EPA is proposing to revise the introductory text containing the tolerance expression in 40 CFR 180.414(a)(1) to read as follows:

Tolerances are established for residues of the insecticide cyromazine, including its metabolites and degradates, in or on the commodities in the table in this paragraph. Compliance with the tolerance levels specified in this paragraph is to be determined by measuring only cyromazine, N-cyclopropyl-1,3,5-triazine-2,4,6-triamine, in or on the commodity.

Also, in order to describe more clearly the measurement and scope or coverage of the tolerances, EPA is proposing to revise the introductory text containing the tolerance expression in 40 CFR 180.414(a)(2) and remove existing subparagraphs (a)(2)(i), (a)(2)(ii), (a)(2)(iii), (a)(2)(iv), and (a)(2)(v). The revised paragraph (a)(2) reads as follows:

A tolerance of 5.0 parts per million is established for residues of the insecticide cyromazine, including its metabolites and degradates, in or on poultry feed when used as a feed additive only in feed for chicken layer hens and chicken breeder hens at the rate of not more than 0.01 pound of cyromazine per ton of poultry feed for control of flies in manure of treated chicken layer hens and chicken breeder hens, provided the feeding of cyromazine-treated feed must stop at least 3 days (72 hours) before slaughter. If the feed is formulated by any person other than the end user, the formulator must inform the end user, in writing, of the 3-day (72 hours) pre-slaughter interval. Compliance with the tolerance level specified in this paragraph is to be determined by measuring only cyromazine, N-cyclopropyl-1,3,5-triazine-2,4,6-triamine, in or on the commodity.

In addition, in order to describe more clearly the measurement and scope or coverage of the tolerances, EPA is proposing to revise the introductory text containing the tolerance expression in 40 CFR 180.414(d) to read as follows:

Tolerances are established for the indirect or inadvertent residues of the insecticide cyromazine, including its metabolites and degradates, in or on the commodities in the table in this paragraph when present therein as a result of the application of cyromazine to growing crops listed in paragraph (a)(1) of this section. Compliance with the tolerance levels specified in this paragraph is to be determined by measuring only cyromazine, N-cyclopropyl-1,3,5-triazine-2,4,6-triamine, in or on the commodity.

8. Etofenprox. In order to describe more clearly the measurement and scope or coverage of the tolerances, EPA is proposing to revise the introductory text containing the tolerance expression in 40 CFR 180.620(a) to read as follows:

A tolerance is established for residues of the insecticide etofenprox, including its metabolites and degradates, in or on the commodity in the table in this paragraph. Compliance with the tolerance level specified in this paragraph is to be determined by measuring only etofenprox, 2-(4-ethoxyphenyl)-2-methylpropyl 3-phenoxybenzyl ether, in or on the commodity.

9. Fenarimol. In order to describe more clearly the measurement and scope or coverage of the tolerances, EPA is proposing to revise the introductory text containing the tolerance expression in 40 CFR 180.421(a) to read as follows:

Tolerances are established for residues of the fungicide fenarimol, including its metabolites and degradates, in or on the commodities in the table in this paragraph. Compliance with the tolerance levels specified in this paragraph is to be determined by measuring only fenarimol, alpha-(2-chlorophenyl)-alpha-(4-chlorophenyl)-5-pyrimidinemethanol, in or on the commodity.

10. Fenbutatin-oxide. In order to describe more clearly the measurement and scope or coverage of the tolerances, EPA is proposing to revise the section heading in 40 CFR 180.362 from hexakis (2-methyl-2-phenylpropyl)distannoxane to fenbutatin-oxide and revise the introductory text containing the tolerance expression in 40 CFR 180.362(a)(1) to read as follows:

Tolerances are established for residues of the miticide/acaricide fenbutatin-oxide, including its metabolites and degradates, in or on the plant commodities in the table in this paragraph. Compliance with the tolerance levels specified in this paragraph is to be determined by measuring only fenbutatin-oxide, hexakis (2-methyl-2-phenylpropyl)distannoxane, in or on the commodity.

In order to describe more clearly the measurement and scope or coverage of the tolerances, EPA is proposing to revise the introductory text containing the tolerance expression in 40 CFR 180.362(a)(2) to read as follows:

Tolerances are established for residues of the miticide/acaricide fenbutatin-oxide, including its metabolites and degradates, in or on the animal commodities in the table in this paragraph. Compliance with the tolerance levels specified in this paragraph is to be determined by measuring only the sum of fenbutatin-oxide, hexakis (2-methyl-2-phenylpropyl)distannoxane, and its organotin metabolites, dihydroxybis(2-methyl-2-phenylpropyl)stannane and 2-methyl-2-phenylpropylstannoic acid, calculated as the stoichiometric equivalent of fenbutatin-oxide, in or on the commodity.

In the May 2002 Tolerance Reassessment Decision (TRED) for fenbutatin-oxide, EPA determined that in order to better harmonize with Codex Alimentarius, the tolerance expression for plant commodities should include the parent compound only for compliance. Currently, there is one regional tolerance in 40 CFR 180.362(c) for residues of the parent compound and its organotin metabolites calculated as the parent compound in or on raspberry. Therefore, in order to better harmonize with Codex and describe more clearly the measurement and scope or coverage of the tolerances, EPA is proposing to revise the introductory text containing the tolerance expression in 40 CFR 180.362(c) to read as follows:

A tolerance with regional registration is established for residues of the miticide/acaricide fenbutatin-oxide, including its metabolites and degradates, in or on the plant commodity in the table in this paragraph. Compliance with the tolerance level specified in this paragraph is to be determined by measuring only fenbutatin-oxide, hexakis (2-methyl-2-phenylpropyl)distannoxane, in or on the commodity.

11. Fenoxaprop-ethyl. In order to describe more clearly the measurement and scope or coverage of the tolerances, EPA is proposing to revise the introductory text containing the tolerance expression in 40 CFR 180.430(a) to read as follows:

Tolerances are established for residues of the herbicide fenoxaprop-ethyl, including its metabolites and degradates, in or on the commodities in the table in this paragraph. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity.

Also, in order to describe more clearly the measurement and scope or coverage of the tolerances, EPA is proposing to revise the introductory text containing the tolerance expression in 40 CFR 180.430(b) to read as follows:

Time-limited tolerances are established for residues of the herbicide fenoxaprop-ethyl, including its metabolites and degradates, in or on the commodities in the table in this paragraph in connection with use of fenoxaprop-ethyl under section 18 emergency exemptions granted by EPA. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity. The tolerances expire and are revoked on the dates specified in the table in this paragraph.

12. Flumetsulam. In order to describe more clearly the measurement and scope or coverage of the tolerances, EPA is proposing to redesignate the existing paragraph from 40 CFR 180.468 to 180.468(a) and revise the introductory text containing the tolerance expression in newly designated 40 CFR 180.468(a) to read as follows:

Tolerances are established for residues of the herbicide flumetsulam, including its metabolites and degradates, in or on the commodities in the table in this paragraph. Compliance with the tolerance levels specified in this paragraph is to be determined by measuring only flumetsulam, N-(2,6-difluorophenyl)-5-methyl-(1,2,4)-triazolo-(1,5a)-pyrimidine-2-sulfonamide, in or on the commodity.

In accordance with current Agency practice, EPA is proposing to amend 40 CFR 180.468 by adding separate paragraphs (b), (c), and (d), and reserving those paragraphs for tolerance exemptions for section 18 emergency exemptions, tolerances with regional registrations, and tolerances with indirect or inadvertent residues, respectively.

In addition, EPA is proposing to revise commodity terminology to conform to current Agency practice in newly designated 40 CFR 180.468(a) as follows: “bean, dry” to “bean, dry, seed;” and “soybean” to “soybean, seed.”

13. Flumiclorac pentyl. In order to describe more clearly the measurement and scope or coverage of the tolerances, EPA is proposing to revise the introductory text containing the tolerance expression in 40 CFR 180.477(a) to read as follows:

Tolerances are established for residues of the herbicide flumiclorac pentyl, including its metabolites and degradates, in or on the commodities in the table in this paragraph. Compliance with the tolerance levels specified in this paragraph is to be determined by measuring only flumiclorac pentyl, pentyl(2-chloro-4-fluoro-5-(1,3,4,5,6,7-hexahydro-1,3-dioxo-2H-isoindol-2-yl)phenoxy)acetate, in or on the commodity.

14. Fluridone. In order to describe more clearly the measurement and scope or coverage of the tolerances, EPA is proposing to redesignate the existing paragraph from 40 CFR 180.420(a) to 180.420(a)(1), add a table for existing commodities, and revise the introductory text containing the tolerance expression in newly designated 40 CFR 180.420(a)(1) to read as follows:

Tolerances are established for residues of the herbicide fluridone, including its metabolites and degradates, in or on the commodities in the table in this paragraph. Compliance with the tolerance levels specified in this paragraph is to be determined by measuring only the sum of fluridone, 1-methyl-3-phenyl-5-(3-(trifluoromethyl)phenyl)-4(1H)-pyridinone, and its bound residues, calculated as the stoichiometric equivalent of fluridone, in or on the commodity.

Also, in order to describe more clearly the measurement and scope or coverage of the tolerances, EPA is proposing to redesignate the existing paragraph from 40 CFR 180.420(b) to 180.420(a)(2) and revise the introductory text containing the tolerance expression in newly designated 40 CFR 180.420(a)(2) to read as follows:

Tolerances are established for residues of the herbicide fluridone, including its metabolites and degradates, in or on the commodities in the table in this paragraph. Compliance with the tolerance levels specified in this paragraph is to be determined by measuring only fluridone, 1-methyl-3-phenyl-5-(3-(trifluoromethyl)phenyl)-4(1H)-pyridinone, in or on the commodity.

In addition, in order to describe more clearly the measurement and scope or coverage of the tolerances, EPA is proposing to redesignate the existing paragraph from 40 CFR 180.420(c) to 180.420(d) and revise the introductory text containing the tolerance expression in newly designated 40 CFR 180.420(d) to read as follows:

Tolerances are established for indirect or inadvertent residues of the herbicide fluridone, including its metabolites and degradates, in or on the irrigated crop commodities and crop groupings in the table in this paragraph, resulting from use of irrigation water containing residues of 0.15 ppm following applications of fluridone on or around aquatic sites. Where tolerances are established at higher levels from other uses of fluridone on the following crops, the higher tolerance also applies to residues in the irrigated commodity. Compliance with the tolerance levels specified in this paragraph is to be determined by measuring only fluridone, 1-methyl-3-phenyl-5-(3-(trifluoromethyl)phenyl)-4(1H)-pyridinone, in or on the commodity.

In accordance with current Agency practice, EPA is proposing to amend 40 CFR 180.420 by adding separate paragraphs (b) and (c), and reserving those paragraphs for tolerance exemptions for section 18 emergency exemptions and tolerances with regional registrations, respectively.

In addition, EPA is proposing to revise commodity terminology to conform to current Agency practice in the table to newly designated 40 CFR 180.420(d) as follows: “citrus” to “fruit, citrus, group 10;” “cucurbits” to “vegetable, cucurbit, group 9;” “fruit, pome” to “fruit, pome, group 11; “fruit, small” to “berry, group 13;” “cranberry;” “grape;” and “strawberry;” “fruit, stone” to “fruit, stone, group 12; “grain, crop” to “grain, cereal, group 15” and “grain, cereal, forage, fodder and straw, group 16;” “legume, forage” to “animal feed, nongrass, group 18;” nut” to “nut, tree, group 14;” “vegetable, fruiting” to “vegetable, fruiting, group 8;” “vegetable, leafy” to “vegetable, leafy, except brassica, group 4” and “vegetable, brassica, leafy, group 5;” “vegetable, root crop” to “vegetable, root and tuber, group 1” and “vegetable, leaves of root and tuber, group 2;” “vegetable, seed and pod” to “vegetable, legume, group 6” and “okra.”

15. Fomesafen. In order to describe more clearly the measurement and scope or coverage of the tolerances, EPA is proposing to revise the introductory text containing the tolerance expression in 40 CFR 180.433(a) to read as follows:

Tolerances are established for residues of the herbicide fomesafen, including its metabolites and degradates, in or on the commodities in the table in this paragraph from the application of its sodium salt. Compliance with the tolerance levels specified in this paragraph is to be determined by measuring only fomesafen, 5-(2-chloro-4-(trifluoromethyl)phenoxy)-N-(methylsulfonyl)-2-nitrobenzamide, in or on the commodity.

16. Fosthiazate. In order to describe more clearly the measurement and scope or coverage of the tolerances, EPA is proposing to revise the introductory text containing the tolerance expression in 40 CFR 180.596(a) to read as follows:

A tolerance is established for residues of the insecticide fosthiazate, including its metabolites and degradates, in or on the commodity in the table in this paragraph. Compliance with the tolerance level specified in this paragraph is to be determined by measuring only the sum of fosthiazate, O-ethyl S-(1-methylpropyl)(2-oxo-3-thiazolidinyl)phosphonothioate, and its metabolite, O-ethyl S-(1-methylpropyl)(2-(methylsulfonyl)ethyl)phosphoramidothioate, calculated as the stoichiometric equivalent of fosthiazate, in or on the commodity.

17. Glufosinate ammonium. In order to describe more clearly the measurement and scope or coverage of the tolerances, EPA is proposing to revise the introductory text containing the tolerance expression in 40 CFR 180.473(a) to read as follows:

Tolerances are established for residues of the herbicide glufosinate ammonium, including its metabolites and degradates, in or on the commodities in the table in this paragraph. Compliance with the tolerance levels specified in this paragraph is to be determined by measuring only the sum of glufosinate ammonium, 2-amino-4-(hydroxymethylphosphinyl)butanoic acid monoammonium salt, and its metabolites, 2-acetamido-4-methylphosphinicobutanoic acid and 3-methylphosphinicopropionic acid, calculated as the stoichiometric equivalent of 2-amino-4-(hydroxymethylphosphinyl)butanoic acid, in or on the commodity.

Also, in order to describe more clearly the measurement and scope or coverage of the tolerances, EPA is proposing to revise the introductory text containing the tolerance expression in 40 CFR 180.473(d) to read as follows:

Tolerances are established for indirect or inadvertent residues of the herbicide glufosinate ammonium, including its metabolites and degradates, in or on the commodities in the table in this paragraph when present therein as a result of the application of glufosinate ammonium to crops listed in the table in paragraph (a) of this section. Compliance with the tolerance levels specified in this paragraph is to be determined by measuring only the sum of glufosinate ammonium, 2-amino-4-(hydroxymethylphosphinyl)butanoic acid monoammonium salt, and its metabolite, 3-methylphosphinicopropionic acid, calculated as the stoichiometric equivalent of 2-amino-4-(hydroxymethylphosphinyl)butanoic acid, in or on the commodity.

18. Lactofen. In order to describe more clearly the measurement and scope or coverage of the tolerances, EPA is proposing to revise the introductory text containing the tolerance expression in 40 CFR 180.432(a) to read as follows:

Tolerances are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

Also, in order to describe more clearly the measurement and scope or coverage of the tolerances, EPA is proposing to revise the introductory text containing the tolerance expression in 40 CFR 180.432(c) to read as follows:

Tolerances with regional registration are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

19. Oxytetracycline. In order to describe more clearly the measurement and scope or coverage of the tolerances, EPA is proposing to designate the existing paragraph in 40 CFR 180.337 as § 180.337(a) and revise the introductory text containing the tolerance expression in newly designated 40 CFR 180.337(a) to read as follows:

Tolerances are established for residues of the fungicide/bactericide oxytetracycline, including its metabolites and degradates, in or on the commodities in the table in this paragraph. Compliance with the tolerance levels specified in this paragraph is to be determined by measuring only oxytetracycline, (4S,4aR,5S,5aR,6S,12aS)-4-(dimethylamino)-1,4,4a,5,5a,6,11,12a-octahydro-3,5,6,10,12,12a-hexahydroxy-6-methyl-1,11-dioxo-2-naphthacenecarboxamide, in or on the commodity.

In accordance with current Agency practice, EPA is proposing to revise 40 CFR 180.337 by adding separate paragraphs (b), (c), and (d), and reserving those paragraphs for section 18 emergency exemptions, tolerances with regional registrations, and tolerances with indirect or inadvertent residues, respectively.

20. Propetamphos. In order to describe more clearly the measurement and scope or coverage of the tolerances, EPA is proposing in 40 CFR 180.541 to remove paragraphs (a)(1), (a)(2), and (a)(3) and revise paragraph (a), including the introductory text containing the tolerance expression, to read as follows:

A tolerance of 0.1 part per million is established for residues of the insecticide propetamphos, including its metabolites and degradates, in or on food or feed commodities when present therein as a result of the treatment of food- or feed-handling establishments with propetamphos. Direct application shall be limited solely to spot and/or crack and crevice treatment in food- or feed-handling establishments where food or feed and food or feed products are held, processed, prepared, served, or sold. Spray and dust concentrations shall be limited to a maximum of 1 percent active ingredient. For crack and crevice treatment, equipment capable of delivering a dust or a pin-stream of spray directly into cracks and crevices shall be used. For spot treatment, a coarse, low-pressure spray shall be used to avoid contamination of food, feed, or food-contact/feed-contact surfaces. Compliance with the tolerance level specified in this paragraph is to be determined by measuring only propetamphos, 1-methylethyl-(2E)-3-((ethylamino)methoxyphosphinothioyl)oxy)-2-butenoate, in or on the commodity.

21. Propyzamide. In order to describe more clearly the measurement and scope or coverage of the tolerances, EPA is proposing to revise the introductory text containing the tolerance expression in 40 CFR 180.317(a) to read as follows:

Tolerances are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

Also, in order to describe more clearly the measurement and scope or coverage of the tolerances, EPA is proposing to revise the introductory text containing the tolerance expression in 40 CFR 180.317(c) to read as follows:

Tolerances with regional registration are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

In addition, in order to describe more clearly the measurement and scope or coverage of the tolerances, EPA is proposing to revise the introductory text containing the tolerance expression in 40 CFR 180.317(d) to read as follows:

Tolerances are established for indirect or inadvertent residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

22. Pyridate. In order to describe more clearly the measurement and scope or coverage of the tolerances, EPA is proposing to revise the introductory text containing the tolerance expression in 40 CFR 180.462(a) to read as follows:

Tolerances are established for residues of the herbicide pyridate, including its metabolites and degradates, in or on the commodities in the table in this paragraph. Compliance with the tolerance levels specified in this paragraph is to be determined by measuring only the sum of pyridate, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the commodity.

23. Quinclorac. In order to describe more clearly the measurement and scope or coverage of the tolerances, EPA is proposing to revise the introductory text containing the tolerance expression in 40 CFR 180.463(a) to read as follows:

Tolerances are established for residues of the herbicide quinclorac, including its metabolites and degradates, in or on the commodities in the table in this paragraph. Compliance with the tolerance levels specified in this paragraph is to be determined by measuring only quinclorac, 3,7-dichloro-8-quinolinecarboxylic acid, in or on the commodity.

Also, in order to describe more clearly the measurement and scope or coverage of the tolerances, EPA is proposing to revise the introductory text containing the tolerance expression in 40 CFR 180.463(b) to read as follows:

Time-limited tolerances are established for residues of the herbicide quinclorac, including its metabolites and degradates, in or on the commodity in the table in this paragraph. Compliance with the tolerance level specified in this paragraph is to be determined by measuring only quinclorac, 3,7-dichloro-8-quinolinecarboxylic acid, in or on the commodity. The tolerance expires and is revoked on the date specified in the table in this paragraph.

24. Tebufenozide. In order to describe more clearly the measurement and scope or coverage of the tolerances, EPA is proposing to revise the introductory text containing the tolerance expression in 40 CFR 180.482(a)(1) to read as follows:

Tolerances are established for residues of the insecticide tebufenozide, including its metabolites and degradates, in or on the commodity in the table in this paragraph. Compliance with the tolerance level specified in this paragraph is to be determined by measuring only tebufenozide, 3,5-dimethylbenzoic acid 1-(1,1-dimethylethyl)-2-(4-ethylbenzoyl)hydrazide, in or on the commodity.

In order to describe more clearly the measurement and scope or coverage of the tolerances, EPA is proposing to revise the introductory text containing the tolerance expression in 40 CFR 180.482(a)(2) to read as follows:

Tolerances are established for residues of the insecticide tebufenozide, including its metabolites and degradates, in or on the commodity in the table in this paragraph. Compliance with the tolerance level specified in this paragraph is to be determined by measuring only the sum of tebufenozide, 3,5-dimethylbenzoic acid 1-(1,1-dimethylethyl)-2-(4-ethylbenzoyl)hydrazide, and its metabolites, 3,5-dimethylbenzoic acid 1-(1,1-dimethylethyl)-2-((4-carboxymethyl)benzoyl)hydrazide, 3-hydroxymethyl-5-methylbenzoic acid 1-(1,1-dimethylethyl)-2-(4-ethylbenzoyl)hydrazide, stearic acid conjugate of 3-hydroxymethyl-5-methylbenzoic acid 1-(1,1-dimethylethyl)-2-(4-ethylbenzoyl)hydrazide, and 3-hydroxymethyl-5-methylbenzoic acid 1-(1,1-dimethylethyl)-2-(4-(1-hydroxyethyl)benzoyl)hydrazide, calculated as the stoichiometric equivalent of tebufenozide, in or on the commodity.

In order to describe more clearly the measurement and scope or coverage of the tolerances, EPA is proposing to revise the introductory text containing the tolerance expression in 40 CFR 180.482(d) to read as follows:

Tolerances are established for indirect or inadvertent residues of the insecticide tebufenozide, including its metabolites and degradates, in or on the commodities in the table in this paragraph when present therein as a result of the application of tebufenozide to growing crops listed in paragraph (a)(1) of this section. Compliance with the tolerance levels specified in this paragraph is to be determined by measuring only the sum of tebufenozide, 3,5-dimethylbenzoic acid 1-(1,1-dimethylethyl)-2-(4-ethylbenzoyl)hydrazide, and its metabolite, 3,5-dimethylbenzoic acid 1-(1,1-dimethylethyl)-2-(4-(1-hydroxyethyl)benzoyl)hydrazide calculated as the stoichiometric equivalent of tebufenozide, in or on the commodity.

B. What is the Agency's Authority for Taking this Action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA's general practice is to propose revocation of tolerances/tolerance exemptions for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance/tolerance exemption may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances/tolerance exemptions for residues on crops for which FIFRA registrations no longer exist, unless someone expresses a need for such tolerances/tolerance exemptions. Through this proposed rule, the Agency is inviting individuals who need these import tolerances to identify themselves and the tolerances that are needed to cover imported commodities.

Parties interested in retention of the tolerances/tolerance exemptions should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance/tolerance exemption at issue.

C. When Do These Actions Become Effective?

EPA is proposing that revision of specific tolerance expressions proposed herein, revocation of the tolerances for aluminum tris(O-ethylphosphonate) on pineapple fodder and forage, and revision of specific commodity terminologies (tolerance nomenclatures) for aluminum tris(O-ethylphosphonate), clethodim, flumetsulam, and fluridone become effective on the date of publication of the final rule in the Federal Register. If you have comments, please submit comments as described under SUPPLEMENTARY INFORMATION.

Any commodities listed in this proposal treated with the pesticides subject to this proposal, and in the channels of trade following the tolerance revocations, shall be subject to FFDCA section 408(l)(5), as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standardS-setting organization in trade agreements to which the United States is a party. EPA may establish a tolerance that is different from a Codex MRL; however, FFDCA section 408(b)(4) requires that EPA explain the reasons for departing from the Codex level.

The Codex has not established a MRL for aluminum tris (O-ethylphosphonate), butylate, chlorethoxyfos, clomazone, fenoxaprop-ethyl, flumetsulam, flumiclorac pentyl, fluridone, fomesafen, fosthiazate, lactofen, oxytetracycline (pesticide use), propetamphos, propyzamide, pyridate, and quinclorac, or MRL on rice grain for etofenprox.

The Codex has established MRLs for clethodim in or on various commodities including beans (dry) at 2 milligrams per kilogram (mg/kg), beans, except broad bean and soybean at 0.5 mg/kg, cotton seed at 0.5 mg/kg, eggs at 0.05 mg/kg, field pea (dry) at 2 mg/kg, onion, bulb at 0.5 mg/kg, peanut at 5 mg/kg, sugar beet at 0.1 mg/kg, and sunflower seed at 0.5 mg/kg. These MRLs are different than the tolerances established for clethodim in the United States because of differences in use patterns and/or good agricultural practices. However, the changes in the U.S. tolerance expression which are proposed herein would harmonize U.S. tolerances with Codex MRLs for edible offal (mammalian), meat (from mammals other than marine mammals), milks, potato, poultry meat, poultry edible offal, soybean (dry), and tomato.

The Codex has established MRLs for clofentezine in or on various commodities including edible offal (mammalian) at 0.05 mg/kg, grapes at 2 mg/kg, milks at 0.05 mg/kg, stone fruits at 0.5 mg/kg, and tree nuts at 0.5 mg/kg. These MRLs are different than the tolerances established for clofentezine in the United States because of differences in residue definition for animal commodities and use patterns and/or good agricultural practices for plant commodities.

The Codex has established MRLs for cyromazine in or on various commodities with a residue definition of the parent compound only for compliance, including edible offal (mammalian) at 0.3 mg/kg, eggs at 0.3 mg/kg, fruiting vegetables other than cucurbits at 1 mg/kg, meat (from mammals other than marine mammals) at 0.3 mg/kg, milks at 0.01 mg/kg, mushrooms at 7 mg/kg, onion, bulb at 0.1 mg/kg, peppers, chili (dry) at 10 mg/kg, poultry meat at 0.1 mg/kg, and poultry, edible offal at 0.2 mg/kg. These MRLs are different than the tolerances established for cyromazine in the United States because of differences in use patterns and/or good agricultural practices.

The Codex has established MRLs for fenarimol in or on various commodities with a residue definition of the parent compound only for compliance, including banana at 0.2 mg/kg, cattle kidney at 0.02 mg/kg, cattle meat at 0.02 mg/kg, grape at 0.3 mg/kg, and pome fruits at 0.3 mg/kg. These MRLs are different than the tolerances established for fenarimol in the United States because of differences in use patterns and/or good agricultural practices.

The Codex has established MRLs for fenbutatin-oxide in or on various commodities with a residue definition of the parent compound only for compliance, including cherries at 10 mg/kg, citrus fruits at 5 mg/kg, citrus pulp, dry at 25 mg/kg, and cucumber at 0.5 mg/kg. These MRLs are different than the tolerances established for fenbutatin-oxide in the United States because of differences in use patterns and/or good agricultural practices.

The Codex has established MRLs for glufosinate ammonium in or on various commodities including banana at 0.2 mg/kg, berries and other small fruits at 0.1 mg/kg, edible offal (mammalian) at 0.1 mg/kg, eggs at 0.05 mg/kg, milks at 0.02 mg/kg, potato at 0.5 mg/kg, poultry meat at 0.05 mg/kg, poultry, edible offal at 0.1 mg/kg, rape seed at 5 mg/kg, and sugar beet at 0.05 mg/kg. These MRLs are different than the tolerances established for glufosinate ammonium in the United States because of differences in the residue definitions.

The Codex has established MRLs for tebufenozide in or on various commodities with a residue definition of the parent compound only for compliance, including almond hulls at 30 mg/kg, citrus fruits at 2 mg/kg, cranberry at 0.5 mg/kg, edible offal (mammalian) at 0.02 mg/kg, grapes at 2 mg/kg, leafy vegetables at 10 mg/kg, meat (from mammals other than marine mammals) at 0.05 mg/kg, milks at 0.01 mg/kg, mints at 20 mg/kg, pome fruits at 1 mg/kg, and walnuts at 0.05 mg/kg. These MRLs are different than the tolerances established for tebufenozide in the United States because of differences in residue definition for animal commodities and use patterns and/or good agricultural practices for plant commodities.

IV. Statutory and Executive Order Reviews

In this proposed rule, EPA is proposing to revise tolerance expressions to describe more clearly the measurement and scope or coverage of the tolerances, and revoke the tolerances for aluminum tris(O-ethylphosphonate) on pineapple fodder and forage. The Office of Management and Budget (OMB) has exempted these types of actions (e.g., tolerance actions for which extraordinary circumstances do not exist) from review under Executive Order 12866, entitled Regulatory Planning and Review (58 FR 51735, October 4, 1993). Because this proposed rule has been exempted from review under Executive Order 12866 due to its lack of significance, this proposed rule is not subject to Executive Order 13211, entitled Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: July 15, 2010.
Steven Bradbury,
Director, Office of Pesticide Programs.

Therefore, it is proposed that 40 CFR chapter I be amended as follows:

PART 180—[AMENDED]

1. The authority citation for part 180 continues to read as follows:

Authority: 21 U.S.C. 321(q), 346a and 371.

2. In § 180.232 revise the introductory text in paragraph (a) to read as follows.

§ 180.232 Butylate; tolerances for residues.

(a) * * * Tolerances are established for residues of the herbicide butylate, including its metabolites and degradates, in or on the commodities in the table in this paragraph. Compliance with the tolerance levels specified in this paragraph is to be determined by measuring only butylate, S-ethyl bis(2-methylpropyl)carbamothioate, in or on the commodity.

* * * * *

3. Section 180.317 is amended as follows:

i. Revise the introductory text in paragraph (a);

ii. Revise paragraph (b);

iii. Revise the introductory text in paragraph (c);

iv. Revise the introductory text in paragraph (d).

The revised text reads as follows:

§ 180.317 Propyzamide; tolerances for residues.

(a) * * * Tolerances are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

(b) Section 18 emergency exemptions. [Reserved]

(c) * * * Tolerances with regional registration are established for residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

(d) * * * Tolerances are established for indirect or inadvertent residues of the herbicide propyzamide, including its metabolites and degradates, in or on the commodities in the table in this paragraph. Compliance with the tolerance levels specified in this paragraph is to be determined by measuring only those propyzamide residues convertible to methyl 3,5-dichlorobenzoate, expressed as the stoichiometric equivalent of propyzamide, 3,5-dichloro-N-(1,1-dimethyl-2-propynyl)benzamide, in or on the commodity.

* * * * *

4. Revise § 180.337 to read as follows:

§ 180.337 Oxytetracycline; tolerances for residues.

(a) General. Tolerances are established for residues of the fungicide/bactericide oxytetracycline, including its metabolites and degradates, in or on the commodities in the table in this paragraph. Compliance with the tolerance levels specified in this paragraph is to be determined by measuring only oxytetracycline, (4S,4aR,5S,5aR,6S,12aS)-4-(dimethylamino)-1,4,4a,5,5a,6,11,12a-octahydro-3,5,6,10,12,12a-hexahydroxy-6-methyl-1,11-dioxo-2-naphthacenecarboxamide, in or on the commodity.

Commodity | Parts per million
Apple | 0.35
Peach | 0.35
Pear | 0.35

(b) Section 18 emergency exemptions. [Reserved]

(c) Tolerances with regional registrations. [Reserved]

(d) Indirect or inadvertent residues. [Reserved]

5. Section 180.362 is amended as follows:

i. Revise the section heading;

ii. Revise the introductory text in paragraph (a)(1);

iii. Revise the introductory text in paragraph (a)(2);

iv. Revise the introductory text in paragraph (c).

The revised text read as follows:

§ 180.362 Fenbutatin-oxide; tolerances for residues.

(a) * * * (1) Tolerances are established for residues of the miticide/acaricide fenbutatin-oxide, including its metabolites and degradates, in or on the plant commodities in the table in this paragraph. Compliance with the tolerance levels specified in this paragraph is to be determined by measuring only fenbutatin-oxide, hexakis (2-methyl-2-phenylpropyl)distannoxane, in or on the commodity.

* * * * *

(2) Tolerances are established for residues of the miticide/acaricide fenbutatin-oxide, including its metabolites and degradates, in or on the animal commodities in the table in this paragraph. Compliance with the tolerance levels specified in this paragraph is to be determined by measuring only the sum of fenbutatin-oxide, hexakis (2-methyl-2-phenylpropyl)distannoxane, and its organotin metabolites, dihydroxybis(2-methyl-2-phenylpropyl)stannane and 2-methyl-2-phenylpropylstannoic acid, calculated as the stoichiometric equivalent of fenbutatin-oxide, in or on the commodity.

* * * * *

(c) * * * A tolerance with regional registration is established for residues of the miticide/acaricide fenbutatin-oxide, including its metabolites and degradates, in or on the plant commodity in the table in this paragraph. Compliance with the tolerance level specified in this paragraph is to be determined by measuring only fenbutatin-oxide, hexakis (2-methyl-2-phenylpropyl)distannoxane, in or on the commodity.

* * * * *

6. Section 180.414 is amended as follows:

i. Revise the introductory text in paragraph (a)(1);

ii. Revise paragraph (a)(2);

iii. Revise the introductory text in paragraph (d).

The revised reads as follows:

§ 180.414 Cyromazine; tolerances for residues.

(a) * * * (1) Tolerances are established for residues of the insecticide cyromazine, including its metabolites and degradates, in or on the commodities in the table in this paragraph. Compliance with the tolerance levels specified in this paragraph is to be determined by measuring only cyromazine, N-cyclopropyl-1,3,5-triazine-2,4,6-triamine, in or on the commodity.

* * * * *

(2) A tolerance of 5.0 parts per million is established for residues of the insecticide cyromazine, including its metabolites and degradates, in or on poultry feed when used as a feed additive only in feed for chicken layer hens and chicken breeder hens at the rate of not more than 0.01 pound of cyromazine per ton of poultry feed for control of flies in manure of treated chicken layer hens and chicken breeder hens, provided the feeding of cyromazine-treated feed must stop at least 3 days (72 hours) before slaughter. If the feed is formulated by any person other than the end user, the formulator must inform the end user, in writing, of the 3-day (72 hours) pre-slaughter interval. Compliance with the tolerance level specified in this paragraph is to be determined by measuring only cyromazine, N-cyclopropyl-1,3,5-triazine-2,4,6-triamine, in or on the commodity.

* * * * *

(d) * * * Tolerances are established for the indirect or inadvertent residues of the insecticide cyromazine, including its metabolites and degradates, in or on the commodities in the table in this paragraph when present therein as a result of the application of cyromazine to growing crops listed in paragraph (a)(1) of this section. Compliance with the tolerance levels specified in this paragraph is to be determined by measuring only cyromazine, N-cyclopropyl-1,3,5-triazine-2,4,6-triamine, in or on the commodity.

* * * * *

7. Section 180.415 is amended as follows:

i. Revise paragraph (a);

ii. Revise the introductory text in paragraph (c).

The revised text reads as follows:

§ 180.415 Aluminum tris (O-ethylphosphonate); tolerances for residues.

(a) General. Tolerances are established for residues of the fungicide aluminum tris(O-ethylphosphonate), including its metabolites and degradates, in or on the commodities in the table in this paragraph. Compliance with the tolerance levels specified in this paragraph is to be determined by measuring only aluminum tris(O-ethylphosphonate), in or on the commodity.

Commodity | Parts per million
Avocado | 25
Banana | 3.0
Bushberry subgroup 13B | 40
Caneberry subgroup 13A | 0.1
Cranberry | 0.5
Fruit, citrus, group 10 | 5.0
Fruit, pome, group 11 | 10
Ginseng | 0.1
Hop, dried cones | 45
Juneberry | 40
Lingonberry | 40
Nut, macadamia | 0.20
Onion, bulb | 0.5
Onion, green | 10.0
Pea, succulent | 0.3
Pineapple | 0.1
Salal | 40
Strawberry | 75
Tomato | 3
Turnip, greens | 40
Turnip, roots | 15
Vegetable, brassica, leafy, group 5 | 60
Vegetable, cucurbit, group 9 | 15
Vegetable, leafy, except brassica, group 4 | 100

* * * * *

(c) * * * Tolerances with regional registration are established for residues of the fungicide aluminum tris(O-ethylphosphonate), including its metabolites and degradates, in or on the commodities in the table in this paragraph. Compliance with the tolerance levels specified in this paragraph is to be determined by measuring only aluminum tris(O-ethylphosphonate), in or on the commodity.

* * * * *

8. Revise § 180.420 to read as follows:

§ 180.420 Fluridone; tolerances for residues.

(a) General. (1) Tolerances are established for residues of the herbicide fluridone, including its metabolites and degradates, in or on the commodities in the table in this paragraph. Compliance with the tolerance levels specified in this paragraph is to be determined by measuring only the sum of fluridone, 1-methyl-3-phenyl-5-(3-(trifluoromethyl)phenyl)-4(1H)-pyridinone, and its bound residues, calculated as the stoichiometric equivalent of fluridone, in or on the commodity.

Commodity | Parts per million
Crayfish | 0.5
Fish | 0.5

(2) Tolerances are established for residues of the herbicide fluridone, including its metabolites and degradates, in or on the commodities in the table in this paragraph. Compliance with the tolerance levels specified in this paragraph is to be determined by measuring only fluridone, 1-methyl-3-phenyl-5-(3-(trifluoromethyl)phenyl)-4(1H)-pyridinone, in or on the commodity.

Commodity | Parts per million
Cattle, fat | 0.05
Cattle, kidney | 0.1
Cattle, liver | 0.1
Cattle, meat | 0.05
Cattle, meat byproducts | 0.05
Egg | 0.05
Goat, fat | 0.05
Goat, kidney | 0.1
Goat, liver | 0.1
Goat, meat | 0.05
Goat, meat byproducts | 0.05
Hog, fat | 0.05
Hog, kidney | 0.1
Hog, liver | 0.1
Hog, meat | 0.05
Hog, meat byproducts | 0.05
Horse, fat | 0.05
Horse, kidney | 0.1
Horse, liver | 0.1
Horse, meat | 0.05
Horse, meat byproducts | 0.05
Milk | 0.05
Poultry, fat | 0.05
Poultry, kidney | 0.01
Poultry, liver | 0.01
Poultry, meat | 0.05
Poultry, meat byproducts | 0.05
Sheep, fat | 0.05
Sheep, kidney | 0.1
Sheep, liver | 0.1
Sheep, meat | 0.05
Sheep, meat byproducts | 0.05

(b) Section 18 emergency exemptions. [Reserved]

(c) Tolerances with regional registrations. [Reserved]

(d) Indirect or inadvertent residues. Tolerances are established for indirect or inadvertent residues of the herbicide fluridone, including its metabolites and degradates, in or on the irrigated crop commodities and crop groupings in the table in this paragraph, resulting from use of irrigation water containing residues of 0.15 ppm following applications of fluridone on or around aquatic sites. Where tolerances are established at higher levels from other uses of fluridone on the following crops, the higher tolerance also applies to residues in the irrigated commodity. Compliance with the tolerance levels specified in this paragraph is to be determined by measuring only fluridone, 1-methyl-3-phenyl-5-(3-(trifluoromethyl)phenyl)-4(1H)-pyridinone, in or on the commodity.

Commodity | Parts per million
Animal feed, nongrass, group 18 | 0.15
Avocado | 0.1
Berry, group 13 | 0.1
Cotton, undelinted seed | 0.1
Cranberry | 0.1
Fruit, citrus, group 10 | 0.1
Fruit, pome, group 11 | 0.1
Fruit, stone, group 12 | 0.1
Grain, cereal, forage, fodder and straw, group 16 | 0.1
Grain, cereal, group 15 | 0.1
Grape | 0.1
Grass, forage | 0.15
Hop, dried cones | 0.1
Nut, tree, group 14 | 0.1
Okra | 0.1
Strawberry | 0.1
Vegetable, brassica, leafy, group 5 | 0.1
Vegetable, cucurbit, group 9 | 0.1
Vegetable, fruiting, group 8 | 0.1
Vegetable, leafy, except brassica, group 4 | 0.1
Vegetable, leaves of root and tuber, group 2 | 0.1
Vegetable, legume, group 6 | 0.1
Vegetable, root and tuber, group 1 | 0.1

9. In § 180.421 revise the introductory text in paragraph (a) to read as follows:

§ 180.421 Fenarimol; tolerances for residues.

(a) * * * Tolerances are established for residues of the fungicide fenarimol, including its metabolites and degradates, in or on the commodities in the table in this paragraph. Compliance with the tolerance levels specified in this paragraph is to be determined by measuring only fenarimol, alpha-(2-chlorophenyl)-alpha-(4-chlorophenyl)-5-pyrimidinemethanol, in or on the commodity.

* * * * *

10. In § 180.425 revise the introductory text in paragraph (a) to read as follows.

§ 180.425 Clomazone; tolerances for residues.

(a) * * * Tolerances are established for residues of the herbicide clomazone, including its metabolites and degradates, in or on the commodities in the table in this paragraph. Compliance with the tolerance levels specified in this paragraph is to be determined by measuring only clomazone, 2-(2-chlorophenyl)methyl-4,4-dimethyl-3-isoxazolidinone, in or on the commodity.

* * * * *

11. Section 180.430 is amended as follows:

i. Revise the introductory text in paragraph (a);

ii. Revise the introductory text in paragraph (b).

The revised text reads as follows:

§ 180.430 Fenoxaprop-ethyl; tolerances for residues.

(a) * * * Tolerances are established for residues of the herbicide fenoxaprop-ethyl, including its metabolites and degradates, in or on the commodities in the table in this paragraph. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity.

* * * * *

(b) * * * Time-limited tolerances are established for residues of the herbicide fenoxaprop-ethyl, including its metabolites and degradates, in or on the commodities in the table in this paragraph in connection with use of fenoxaprop-ethyl under section 18 emergency exemptions granted by EPA. Compliance with the tolerance levels specified in this paragraph is to be determined by measuring only the sum of fenoxaprop-ethyl, (±)-ethyl 2-[4-[(6-chloro-2-benzoxazolyl)oxy]phenoxy]propanoate, and its metabolites, 2-[4-[(6-chloro-2-benzoxazolyl)oxy]phenoxy]propanoic acid and 6-chloro-2,3-dihydrobenzoxazol-2-one, calculated as the stoichiometric equivalent of fenoxaprop-ethyl, in or on the commodity. The tolerances expire and are revoked on the dates specified in the table in this paragraph.

* * * * *

12. Section 180.432 is amended as follows:

i. Revise the introductory text in paragraph (a);

ii. Revise the introductory text in paragraph (c).

The revised text reads as follows:

§ 180.432 Lactofen; tolerances for residues.

(a) * * * Tolerances are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

* * * * *

(c) * * * Tolerances with regional registration are established for residues of the herbicide lactofen, including its metabolites and degradates, in or on the commodities in the table in this paragraph. Compliance with the tolerance levels specified in this paragraph is to be determined by measuring only lactofen, 2-ethoxy-1-methyl-2-oxoethyl 5-[2-chloro-4-(trifluoromethyl)phenoxy]-2-nitrobenzoate, in or on the commodity.

* * * * *

13. In § 180.433 revise the introductory text in paragraph (a) to read as follows.

§ 180.433 Fomesafen; tolerances for residues.

(a) * * * Tolerances are established for residues of the herbicide fomesafen, including its metabolites and degradates, in or on the commodities in the table in this paragraph from the application of its sodium salt. Compliance with the tolerance levels specified in this paragraph is to be determined by measuring only fomesafen, 5-(2-chloro-4-(trifluoromethyl)phenoxy)-N-(methylsulfonyl)-2-nitrobenzamide, in or on the commodity.

* * * * *

14. Section 180.446 is amended as follows:

i. Revise the introductory text in paragraph (a)(1);

ii. Revise the introductory text in paragraph (a)(2).

The revised text reads as follows:

§ 180.446 Clofentezine; tolerances for residues.

(a) * * * (1) Tolerances are established for residues of the insecticide clofentezine, including its metabolites and degradates, in or on the commodities in the table in this paragraph. Compliance with the tolerance levels specified in this paragraph is to be determined by measuring only clofentezine, 3,6-bis(2-chlorophenyl)-1,2,4,5-tetrazine, in or on the commodity.

* * * * *

(2) Tolerances are established for residues of the insecticide clofentezine, including its metabolites and degradates, in or on the commodities in the table in this paragraph. Compliance with the tolerance levels specified in this paragraph is to be determined by measuring only the sum of clofentezine, 3,6-bis(2-chlorophenyl)-1,2,4,5-tetrazine, and its metabolite, 3-(2-chloro-4-hydroxyphenyl)-6-(2-chlorophenyl)-1,2,4,5-tetrazine, calculated as the stoichiometric equivalent of clofentezine, in or on the commodity.

* * * * *

15. Revise § 180.458 to read as follows:

§ 180.458 Clethodim; tolerances for residues.

(a) General. Tolerances are established for residues of the herbicide clethodim, including its metabolites and degradates, in or on the commodities in the table in this paragraph. Compliance with the tolerance levels specified in this paragraph is to be determined by measuring only the sum of clethodim, 2-[(1E)-1-[[[(2E)-3-chloro-2-propenyl]oxy]imino]propyl]-5-[2-(ethylthio)propyl]-3-hydroxy-2-cyclohexen-1-one, and its metabolites containing the 5-(2-ethylthiopropyl)cyclohexene-3-one and 5-(2-ethylthiopropyl)-5-hydroxycyclohexene-3-one moieties and their sulphoxides and sulphones, calculated as the stoichiometric equivalent of clethodim, in or on the commodity.

Commodity | Parts per million
Alfalfa, forage | 6.0
Alfalfa, hay | 10
Artichoke, globe | 1.2
Asparagus | 1.7
Bean, dry, seed | 2.5
Beet, sugar, molasses | 1.0
Beet, sugar, roots | 0.20
Beet, sugar, tops | 1.0
Brassica, head and stem, subgroup 5A | 3.0
Brassica, leafy greens, subgroup 5B | 3.0
Bushberry subgroup 13-07B | 0.20
Caneberry subgroup 13-07A | 0.30
Canola, meal | 1.0
Canola, seed | 0.50
Cattle, fat | 0.2
Cattle, meat | 0.2
Cattle, meat byproducts | 0.2
Clover, forage | 10.0
Clover, hay | 20.0
Corn, field, forage | 0.2
Corn, field, grain | 0.2
Corn, field, stover | 0.2
Cotton, meal | 2.0
Cotton, undelinted seed | 1.0
Cranberry | 0.50
Egg | 0.2
Flax, meal | 1.0
Flax, seed | 0.6
Goat, fat | 0.2
Goat, meat | 0.2
Goat, meat byproducts | 0.2
Herb subgroup 19A | 12.0
Hog, fat | 0.2
Hog, meat | 0.2
Hog, meat byproducts | 0.2
Hop, dried cones | 0.5
Horse, fat | 0.2
Horse, meat | 0.2
Horse, meat byproducts | 0.2
Leaf petioles subgroup 4B | 0.60
Leafy greens subgroup 4A | 2.0
Melon subgroup 9A | 2.0
Milk | 0.05
Mustard, seed | 0.50
Onion, bulb | 0.20
Onion, green | 2.0
Peach | 0.20
Peanut | 3.0
Peanut, hay | 3.0
Peanut, meal | 5.0
Peppermint, tops | 5.0
Potato | 0.5
Potato, granules/flakes | 2.0
Poultry, fat | 0.2
Poultry, meat | 0.2
Poultry, meat byproducts | 0.2
Radish, tops | 0.70
Safflower, meal | 10.0
Safflower, seed | 5.0
Sesame, seed | 0.35
Sheep, fat | 0.2
Sheep, meat | 0.2
Sheep, meat byproducts | 0.2
Soybean | 10.0
Soybean, soapstock | 15.0
Spearmint, tops | 5.0
Squash/cucumber subgroup 9B | 0.50
Strawberry | 3.0
Sunflower, meal | 10.0
Sunflower, seed | 5.0
Turnip, greens | 3.0
Vegetable, fruiting, group 8 | 1.0
Vegetable, legume, group 6, except soybean | 3.5
Vegetable, root, except sugar beet, subgroup 1B | 1.0
Vegetable, tuberous and corm, subgroup 1C | 1.0

(b) Section 18 emergency exemptions. [Reserved]

(c) Tolerances with regional registrations. [Reserved]

(d) Indirect or inadvertent residues. [Reserved]

16. In § 180.462 revise the introductory text in paragraph (a) to read as follows:

§ 180.462 Pyridate; tolerances for residues.

(a) * * * Tolerances are established for residues of the herbicide pyridate, including including its metabolites and degradates, in or on the commodities in the table in this paragraph. Compliance with the tolerance levels specified in this paragraph is to be determined by measuring only the sum of pyridate, O-(6-chloro-3-phenyl-4-pyridazinyl)-S-octyl-carbonothioate, and its metabolites, 6-chloro-3-phenyl-pyridazine-4-ol and conjugates of 6-chloro-3-phenyl-pyridazine-4-ol, calculated as the stoichiometric equivalent of pyridate, in or on the commodity.

* * * * *

17. Section 180.463 is amended as follows:

i. Revise the introductory text in paragraph (a);

ii. Revise the introductory text in paragraph (b).

The revised text reads as follows:

§ 180.463 Quinclorac; tolerances for residues.

(a) * * * Tolerances are established for residues of the herbicide quinclorac, including its metabolites and degradates, in or on the commodities in the table in this paragraph. Compliance with the tolerance levels specified in this paragraph is to be determined by measuring only quinclorac, 3,7-dichloro-8-quinolinecarboxylic acid, in or on the commodity.

* * * * *

(b) * * * Time-limited tolerances are established for residues of the herbicide quinclorac, including its metabolites and degradates, in or on the commodity in the table in this paragraph. Compliance with the tolerance level specified in this paragraph is to be determined by measuring only quinclorac, 3,7-dichloro-8-quinolinecarboxylic acid, in or on the commodity. The tolerance expires and is revoked on the date specified in the table in this paragraph.

* * * * *

18. Revise § 180.468 to read as follows:

§ 180.468 Flumetsulam; tolerances for residues.

(a) General. Tolerances are established for residues of the herbicide flumetsulam, including its metabolites and degradates, in or on the commodities in the table in this paragraph. Compliance with the tolerance levels specified in this paragraph is to be determined by measuring only flumetsulam, N-(2,6-difluorophenyl)-5-methyl-(1,2,4)-triazolo-(1,5a)-pyrimidine-2-sulfonamide, in or on the commodity.

Commodity | Parts per million
Bean, dry, seed | 0.05
Corn, field, forage | 0.05
Corn, field, grain | 0.05
Corn, field, stover | 0.05
Soybean, seed | 0.05

(b) Section 18 emergency exemptions. [Reserved]

(c) Tolerances with regional registrations. [Reserved]

(d) Indirect or inadvertent residues. [Reserved]

19. Section 180.473 is amended as follows:

i. Revise the introductory text in paragraph (a);

ii. Revise the introductory text in paragraph (d).

The revised text reads as follows:

§ 180.473 Glufosinate; tolerances for residues.

(a) * * * Tolerances are established for residues of the herbicide glufosinate ammonium, including its metabolites and degradates, in or on the commodities in the table in this paragraph. Compliance with the tolerance levels specified in this paragraph is to be determined by measuring only the sum of glufosinate ammonium, 2-amino-4-(hydroxymethylphosphinyl)butanoic acid monoammonium salt, and its metabolites, 2-acetamido-4-methylphosphinicobutanoic acid and 3-methylphosphinicopropionic acid, calculated as the stoichiometric equivalent of 2-amino-4-(hydroxymethylphosphinyl)butanoic acid, in or on the commodity.

* * * * *

(d) * * * Tolerances are established for indirect or inadvertent residues of the herbicide glufosinate ammonium, including its metabolites and degradates, in or on the commodities in the table in this paragraph when present therein as a result of the application of glufosinate ammonium to crops listed in paragraph (a) of this section. Compliance with the tolerance levels specified in this paragraph is to be determined by measuring only the sum of glufosinate ammonium, 2-amino-4-(hydroxymethylphosphinyl)butanoic acid monoammonium salt, and its metabolite, 3-methylphosphinicopropionic acid, calculated as the stoichiometric equivalent of 2-amino-4-(hydroxymethylphosphinyl)butanoic acid, in or on the commodity.

* * * * *

20. In §180.477 revise the introductory text in paragraph (a) to read as follows:

§ 180.477 Flumiclorac pentyl; tolerances for residues.

(a) * * * Tolerances are established for residues of the herbicide flumiclorac pentyl, including its metabolites and degradates, in or on the commodities in the table in this paragraph. Compliance with the tolerance levels specified in this paragraph is to be determined by measuring only flumiclorac pentyl, pentyl(2-chloro-4-fluoro-5-(1,3,4,5,6,7-hexahydro-1,3-dioxo-2H-isoindol-2-yl)phenoxy)acetate, in or on the commodity.

* * * * *

21. Section 180.482 is amended as follows:

i. Revise the introductory text in paragraph (a)(1);

ii. Revise the introductory text in paragraph (a)(2);

iii. Revise paragraph (b);

iv. Revise the introductory text in paragraph (d).

The revised text reads as follows:

§ 180.482 Tebufenozide; tolerances for residues.

(a) * * * (1) Tolerances are established for residues of the insecticide tebufenozide, including its metabolites and degradates, in or on the commodities in the table in this paragraph. Compliance with the tolerance levels specified in this paragraph is to be determined by measuring only tebufenozide, 3,5-dimethylbenzoic acid 1-(1,1-dimethylethyl)-2-(4-ethylbenzoyl)hydrazide, in or on the commodity.

* * * * *

(2) Tolerances are established for residues of the insecticide tebufenozide, including its metabolites and degradates, in or on the commodities in the table in this paragraph. Compliance with the tolerance levels specified in this paragraph is to be determined by measuring only the sum of tebufenozide, 3,5-dimethylbenzoic acid 1-(1,1-dimethylethyl)-2-(4-ethylbenzoyl)hydrazide, and its metabolites, 3,5-dimethylbenzoic acid 1-(1,1-dimethylethyl)-2-((4-carboxymethyl)benzoyl)hydrazide, 3-hydroxymethyl-5-methylbenzoic acid 1-(1,1-dimethylethyl)-2-(4-ethylbenzoyl)hydrazide, stearic acid conjugate of 3-hydroxymethyl-5-methylbenzoic acid 1-(1,1-dimethylethyl)-2-(4-ethylbenzoyl)hydrazide, and 3-hydroxymethyl-5-methylbenzoic acid 1-(1,1-dimethylethyl)-2-(4-(1-hydroxyethyl)benzoyl)hydrazide, calculated as the stoichiometric equivalent of tebufenozide, in or on the commodity.

* * * * *

(b) Section 18 emergency exemptions. [Reserved]

* * * * *

(d) * * * Tolerances are established for indirect or inadvertent residues of the insecticide tebufenozide, including its metabolites and degradates, in or on the commodities in the table in this paragraph when present therein as a result of the application of tebufenozide to growing crops listed in paragraph (a)(1) of this section. Compliance with the tolerance levels specified in this paragraph is to be determined by measuring only the sum of tebufenozide, 3,5-dimethylbenzoic acid 1-(1,1-dimethylethyl)-2-(4-ethylbenzoyl)hydrazide, and its metabolite, 3,5-dimethylbenzoic acid 1-(1,1-dimethylethyl)-2-(4-(1-hydroxyethyl)benzoyl)hydrazide calculated as the stoichiometric equivalent of tebufenozide, in or on the commodity.

* * * * *

22. Revise § 180.486 to read as follows:

§ 180.486 Chlorethoxyfos; tolerances for residues.

(a) General. Tolerances are established for residues of the insecticide chlorethoxyfos, including its metabolites and degradates, in or on the commodities in the table in this paragraph. Compliance with the tolerance levels specified in this paragraph is to be determined by measuring only chlorethoxyfos, O,O-diethyl O-(1,2,2,2-tetrachloroethyl) phosphorothioate, in or on the commodity.

Commodity | Parts per million
Corn, field, forage | 0.01
Corn, field, grain | 0.01
Corn, field, stover | 0.01
Corn, pop, grain | 0.01
Corn, pop, stover | 0.01
Corn, sweet, forage | 0.01
Corn, sweet, kernel plus cob with husks removed | 0.01
Corn, sweet, stover | 0.01

(b) Section 18 emergency exemptions. [Reserved]

(c) Tolerances with regional registrations. [Reserved]

(d) Indirect or inadvertent residues. [Reserved]

23. In § 180.541 revise paragraph (a) to read as follows:

§ 180.541 Propetamphos; tolerances for residues.

(a) General. A tolerance of 0.1 part per million is established for residues of the insecticide propetamphos, including its metabolites and degradates, in or on food or feed commodities when present therein as a result of the treatment of food- or feed-handling establishments with propetamphos. Direct application shall be limited solely to spot and/or crack and crevice treatment in food- or feed-handling establishments where food or feed and food or feed products are held, processed, prepared, served, or sold. Spray and dust concentrations shall be limited to a maximum of 1 percent active ingredient. For crack and crevice treatment, equipment capable of delivering a dust or a pin-stream of spray directly into cracks and crevices shall be used. For spot treatment, a coarse, low-pressure spray shall be used to avoid contamination of food, feed, or food-contact/feed-contact surfaces. Compliance with the tolerance level specified in this paragraph is to be determined by measuring only propetamphos, 1-methylethyl-(2E)-3-((ethylamino)methoxyphosphinothioyl)oxy)-2-butenoate, in or on the commodity.

* * * * *

24. In § 180.596 revise the introductory text in paragraph (a) to read as follows:

§ 180.596 Fosthiazate; tolerances for residues.

(a) * * * A tolerance is established for residues of the insecticide fosthiazate, including its metabolites and degradates, in or on the commodity in the table in this paragraph. Compliance with the tolerance level specified in this paragraph is to be determined by measuring only the sum of fosthiazate, O-ethyl S-(1-methylpropyl)(2-oxo-3-thiazolidinyl)phosphonothioate, and its metabolite, O-ethyl S-(1-methylpropyl)(2-(methylsulfonyl)ethyl)phosphoramidothioate, calculated as the stoichiometric equivalent of fosthiazate, in or on the commodity.

* * * * *

25. Revise § 180.620 to read as follows:

§ 180.620 Etofenprox; tolerances for residues.

(a) General. A tolerance is established for residues of the insecticide etofenprox, including its metabolites and degradates, in or on the commodity in the table in this paragraph. Compliance with the tolerance level specified in this paragraph is to be determined by measuring only etofenprox, 2-(4-ethoxyphenyl)-2-methylpropyl 3-phenoxybenzyl ether, in or on the commodity.

Commodity | Parts per million
Rice, grain | 0.01

(b) Section 18 emergency exemptions. [Reserved]

(c) Tolerances with regional registrations. [Reserved]

(d) Indirect or inadvertent residues. [Reserved]

[FR Doc. 2010-18373 Filed 7-27-10; 8:45 am]

BILLING CODE 6560-50-S